DEPARTMENT OF TRANSPORTATION

Office of the Secretary

Agreements Filed; Weekly Receipts

Aviation Proceedings, Agreements filed during week ending September 7, 2001. The following Agreements were filed with the Department of Transportation under provisions of 49 U.S.C. 412 and 414. Answers may be filed within 21 days after the filing of the applications.

Docket Number: OST-2001-10600.

Date Filed: September 7, 2001.

Parties: Members of the International Air Transport Association.

Subject: PTC1 0193 dated 21 August 2001; TC1 Areawide Resolutions, r1-r4; PTC1 0195 dated 21 August 2001; TC1 Longhaul (except between USA and Chile) Resolutions, r5-r52; Minutes—PTC1 0198 dated 31 August 2001; Tables—PTC1 Fares 0065 dated 24 August 2001; TC1 Longhaul (except between USA and Chile) Specified Fares Tables; Intended effective date: 1 January 2002.

Dorothy Y. Beard,
Federal Register Liaison.

[FR Doc. 01-23818 Filed 9-24-01; 8:45 am]

BILLING CODE 4910-62-P